DEPARTMENT OF THE INTERIOR

Fish and Wildlife Service

[FWS-HQ-R-2013-N233; FXRS12650900000-145-FF09R20000]

New Deadlines for Public Comment on Draft Environmental Documents

AGENCY: Fish and Wildlife Service, Interior.

ACTION: Notice.

SUMMARY: We announce new deadlines for the public to submit input on several draft documents prepared in accordance with the National Environmental Policy Act. We are taking this action in regard to draft documents and scoping periods that were open for comment during the recent lapse in Federal appropriations. To ensure that we receive the best possible input to guide our decisionmaking, we want to provide the public adequate time to review and comment on the draft documents.

DATES: See SUPPLEMENTARY INFORMATION for the new comment period end dates.

ADDRESSES: See each original Federal Register notice for information on where to submit comments. The Federal Register citations and links to the notices are in SUPPLEMENTARY INFORMATION.

FOR FURTHER INFORMATION CONTACT: See the contact information in the original Federal Register notices. The Federal Register citations and links to the notices are in SUPPLEMENTARY INFORMATION.

SUPPLEMENTARY INFORMATION: We, the U.S. Fish and Wildlife Service (Service), published notices in the Federal Register in August, September, and October that announced the availability of various documents for public review. These documents included a draft environmental impact statement (EIS)/environmental impact report and draft environmental assessments (EA) prepared in accordance with the National Environmental Policy Act, as amended (NEPA) (42 U.S.C. 4321 et seq.), and related documents, such as draft comprehensive conservation plans (CCP). The Federal Register notices directed interested parties to contact Service personnel and Web sites for information about these draft documents. As a result of the recent lapse in Federal appropriations, these personnel and Web sites were unavailable for 16 days.

To ensure compliance with our responsibilities under NEPA and to provide the public increased access to Service sources of information, we are allowing additional time for public input on these draft documents. We are also extending the comment periods for scoping for an upcoming CCP and EIS for one national wildlife refuge and an upcoming CCP and EA for another refuge and for either an EIS or EA for a proposed habitat conservation plan. The following table provides relevant information that will help the public get access to the draft documents and submit comments:

Title of Federal Register notice | Federal Register citation | New comment period end date | Web link
Rocky Mountain Arsenal National Wildlife Refuge, Commerce City, CO; Comprehensive Conservation Plan and Environmental Impact Statement; Two Ponds National Wildlife Refuge, Arvada, CO; Comprehensive Conservation Plan and Environmental Assessment | 78 FR 48183; August 7, 2013 | November 15, 2013 | http://www.gpo.gov/fdsys/pkg/FR-2013-08-07/pdf/2013-19052.pdf.
South Bay Salt Pond Restoration Project, Phase 2 (Ponds R3, R4, R5, S5, A1, A2W, A8, A8S, A19, A20, and A21) at the Don Edwards National Wildlife Refuge; Intent To Prepare an Environmental Impact Statement/Environmental Impact Report | 78 FR 56921; September 16, 2013 | December 2, 2013 | http://www.gpo.gov/fdsys/pkg/FR-2013-09-16/pdf/2013-22438.pdf.
Habitat Conservation Plan for the Community of Los Osos, San Luis Obispo County, CA; Notice of Intent | 78 FR 57651; September 19, 2013 | November 20, 2013 | http://www.gpo.gov/fdsys/pkg/FR-2013-09-19/pdf/2013-22778.pdf.
Notice of Availability of the Draft Southeast Missouri Ozarks Regional Restoration Plan and Environmental Assessment | 78 FR 57875; September 20, 2013 | December 4, 2013 | http://www.gpo.gov/fdsys/pkg/FR-2013-09-20/pdf/2013-22953.pdf.
DeSoto and Boyer Chute National Wildlife Refuges; Washington County, Nebraska, and Harrison and Pottawattamie Counties, Iowa; Draft Environmental Assessment and Comprehensive Conservation Plan | 78 FR 57876; September 20, 2013 | November 8, 2013 | http://www.gpo.gov/fdsys/pkg/FR-2013-09-20/pdf/2013-22956.pdf.
Cokeville Meadows National Wildlife Refuge, Lincoln County, WY; Draft Comprehensive Conservation Plan and Environmental Assessment | 78 FR 58340; September 23, 2013 | November 4, 2013 | http://www.gpo.gov/fdsys/pkg/FR-2013-09-23/pdf/2013-23107.pdf.
Golden Eagles; Programmatic Take Permit Application; Draft Environmental Assessment; Shiloh IV Wind Project, Solano County, California | 78 FR 59710; September 27, 2013 | November 29, 2013 | http://www.gpo.gov/fdsys/pkg/FR-2013-09-27/pdf/2013-23732.pdf.
Big Muddy National Fish and Wildlife Refuge, Authorized Within the Twenty Counties That Lie Along the Missouri River From Kansas City to St. Louis, MO; Draft Environmental Assessment and Comprehensive Conservation Plan | 78 FR 60306; October 1, 2013 | November 20, 2013 | http://www.gpo.gov/fdsys/pkg/FR-2013-10-01/pdf/2013-23733.pdf.

For information about these draft documents and related issues, contact the person listed in the relevant notice under FOR FURTHER INFORMATION CONTACT.

Authority: We issue this notice under the authority of the National Environmental Policy Act, as amended (42 U.S.C. 4321 et seq.).

Dated: October 25, 2013.
Tina A. Campbell,
Chief, Division of Policy and Directives Management.

[FR Doc. 2013-25738 Filed 10-29-13; 8:45 am]

BILLING CODE 4310-55-P